DEPARTMENT OF TRANSPORTATION

Federal Highway Administration

Environmental Impact Statement: Mobile and Baldwin Counties, AL

AGENCY: Federal Highway Administration (FHWA), DOT.

ACTION: Notice of intent.

SUMMARY: The FHWA is issuing this notice to advise the public that an environmental impact statement (EIS) will be prepared for a proposed highway project in Mobile and Baldwin Counties, Alabama.

FOR FURTHER INFORMATION CONTACT: Mr. Joe D. Wilkerson, Division Administrator, Federal Highway Administration, 500 Eastern Blvd., Suite 200, Montgomery, Alabama 36177, Telephone: (334) 223-7370.

SUPPLEMENTARY INFORMATION: The FHWA in cooperation with the Alabama Department of Transportation (ALDOT) will prepare an environment impact statement on a proposal to increase the capacity of Interstate Route 10 at Mobile by constructing a new six-lane bridge across the Mobile River at Mobile and widening the existing bridges across Mobile Bay from four to eight lanes.

Interstate Route 10 now goes under the Mobile River in a four-lane tunnel and crosses Mobile Bay on two, two-lane bridges, each seven mile long bridges. Existing and predicted traffic volumes require that additional capacity on I-10 across the Mobile River and Mobile Bay be added. Currently, vehicles transporting flammables, corrosives, and explosives are prohibited from using the I-10 tunnel, which requires these hazardous materials to be transported along a circuitous route along a surface street, part of I-165, a bridge over the Mobile River, and a segment of a noncontrolled-access State route.

An Environmental Assessment (EA) has been prepared for the project which essentially evaluated a single alignment. The alignment evaluated in the EA emerged from a Feasibility Study for a Mobile River I-10 Bridge, which was completed in 1997 for the South Alabama Regional Planning Commission. The proposed design for the new bridge provides 190 feet of vertical clearance with a 1,250-foot span over the Mobile River ship channel.

Because of concerns relating to visual impacts of the bridge on historic properties, including a National Register Landmark structure (Old City Hall), it has been decided to prepare an EIS which will include reevaluation of all three alignments included in the feasibility study.

Alternatives under consideration are no build and adding capacity by constructing a six-lane bridge across the Mobile River, which will tie or merge with the existing I-10 bridges across Mobile Bay, and widening the current Mobile Bay bridges from four to eight lanes. Three build alternates were considered in a feasibility study performed for the project. All three alternates will be further evaluated in the development of the EIS.

The prior EA process included two public involvement meetings, meetings with local historic interests, resource agencies, a Bridge Aesthetic Design Workshop, a neighborhood workshop, and two public hearings. Early coordination letters were sent to resource agencies, tribes, and interested parties. The EA was also distributed to interested parties.

Cooperating agencies include the U.S. Coast Guard and U.S. Army Corps of Engineers.

New early coordination letters, two additional public involvement meetings, and two public hearings are proposed at this time. The existing, cooperating agencies will be requested to maintain that status for the EIS.

During the evaluation of effect on historic properties, an adverse effect was determined for several properties including the Old City Hall. Therefore, coordination with the Department of Interior, the Advisory Council on Historic Preservation, and the State Historic Preservation Officer (Alabama Historic Commission) is required. Also, the National Trust on Historic Preservation and the Mobile Historic Commission requested to be consulting parties during the EA process. That coordination will continue during the EIS process.

To ensure that the full range of issues related to this project are addressed and that all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)

Joe D. Wilkerson,
Division Administrator, Montgomery, Alabama.

[FR Doc. 03-26342 Filed 10-17-03; 8:45 am]

BILLING CODE 4910-22-M